DEPARTMENT OF LABOR

Employment and Training Administration

[TA-W-73,077]

Grupo Antolin, a Subsidiary of Grupo Antolin North America Including Workers Whose Unemployment Insurance (UI) Wages Are Reported Through Keyland Usa, Inc. Including On-Site Leased Workers From Job Network Belvidere, IL; Amended Certification Regarding Eligibility To Apply for Worker Adjustment Assistance

In accordance with Section 223 of the Trade Act of 1974, as amended (“Act”), 19 U.S.C. 2273, the Department of Labor issued a Certification of Eligibility To Apply for Worker Adjustment Assistance on June 16, 2010, applicable to workers of Grupo Antolin, a subsidiary of Grupo Antolin North America, including on-site leased workers from Job Network, Belvidere, Illinois. The workers produce door trim modules for the automotive industry. The notice was published in the Federal Register on July 1, 2010 (75 FR 38141).

At the request of the State agency, the Department reviewed the certification for workers of the subject firm.

New information shows that Keyland USA, Inc. has a service agreement signed with Grupo Antolin to provide the administration services of the IT area, including day to day IT operations as well as support in the launch of new projects and any other related activity. Some workers separated from employment at the Belvidere, Illinois location of Grupo Antolin, a subsidiary of Grupo Antolin North America had their wages reported under a separate unemployment insurance (UI) tax account under the name Keyland USA, Inc.

Accordingly, the Department is amending this certification to properly reflect this matter.

The intent of the Department's certification is to include all workers of the subject firm who were adversely affected as a secondary component supplier to a trade certified primary firm, (Chrysler Assembly Plant, Belvidere, Illinois).

The amended notice applicable to TA-W-73,077 is hereby issued as follows:

All workers of Grupo Antolin, a subsidiary of Grupo Antolin North America, including workers whose unemployment insurance (UI) wages are reported through Keyland USA, Inc., including on-site leased workers from Job Network, Belvidere, Illinois, who became totally or partially separated from employment on or after December 9, 2008 through June 16, 2012, and all workers in the group threatened with total or partial separation from employment on date of certification through two years from the date of certification, are eligible to apply for adjustment assistance under Chapter 2 of Title II of the Trade Act of 1974, as amended.

Signed at Washington, DC, this 19th day of December 2011.
Michael W. Jaffe,
Certifying Officer, Office of Trade Adjustment Assistance.

[FR Doc. 2011-33328 Filed 12-28-11; 8:45 am]

BILLING CODE 4510-FN-P